DEPARTMENT OF THE INTERIOR

Fish and Wildlife Service

[Docket No. FWS-R1-ES-2022-0029; ES11140100000-256-FF01E0000]

Record of Decision for the Final Environmental Impact Statement and Habitat Conservation Plan for the Elliott State Research Forest in Coos and Douglas Counties, Oregon

AGENCY: Fish and Wildlife Service, Interior.

ACTION: Notice of availability; record of decision.

SUMMARY: We, the U.S. Fish and Wildlife Service (Service) announce the availability of a record of decision (ROD) for the issuance of a permit under the Endangered Species Act (ESA) for certain activities at the Elliott State Research Forest supported by a habitat conservation plan (HCP) in Coos and Douglas Counties, Oregon. The ROD documents the Service's decision to issue an incidental take permit (ITP) to the Oregon Department of State Lands (DSL) in response to their permit application. As summarized in the ROD, the Service has selected the proposed action alternative, which is issuance of an 80-year ITP authorizing take of species listed under the ESA that may occur incidental to research and management activities over the permit term implemented consistent with the HCP.

ADDRESSES: You may obtain copies of the ROD and other documents associated with the decision by any of the following methods:

• Internet: https://www.regulations.gov (search for Docket No. FWS-R1-ES-2022-0029) or at https://www.fws.gov/project/elliott-state-research-forest-habitat-conservation-plan.

• Phone: You may call Shauna Everett at 503-231-6949, to request alternative formats of the documents.

FOR FURTHER INFORMATION CONTACT: Shauna Everett, U.S. Fish and Wildlife Office, Oregon Fish and Wildlife Office (see ADDRESSES), by telephone at 503-231-6949, or by email at shauna_everett@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Service, announce the availability of a ROD for the issuance of a permit under section 10(a)(1)(B) of the ESA, as amended (16 U.S.C. 1531 et seq.) to the DSL for research and forest management activities on the Elliott State Research Forest, as supported and implemented under DSL's HCP. In compliance with the National Environmental Policy Act of 1969, as amended (NEPA; 42 U.S.C. 4321 et seq.), the Service prepared an environmental impact statement (EIS) analyzing effects to the human environment associated with the proposed action and alternatives. The ROD documents the Service's decision to select Alternative 2, the proposed action, which includes issuance of an 80-year ITP authorizing take of the threatened northern spotted owl (Strix occidentalis caurina) and threatened marbled murrelet (Brachyramphus marmoratus) that may occur incidental to research and management activities in the permit area over the permit term.

The Service and National Marine Fisheries Service (NMFS) make independent decisions regarding authorization for incidental take of the species under their respective jurisdictions. NMFS's decision regarding authorization of take of the threatened Oregon Coast coho salmon (Oncorhynchus kisutch) is not addressed in the Service's ROD.

Background

As described in the HCP, DSL requested authorization for take of the northern spotted owl, marbled murrelet, and Oregon Coast coho salmon (together, the covered species) that may occur incidental to a variety of research and management activities, including forest research treatments, timber removal, forest and species research projects, supporting management activities, supporting infrastructure management, and activities identified in the conservation strategy and monitoring program of the HCP. These activities and the effects on covered species and the human environment are described further in the HCP and final EIS. Measures to minimize and mitigate impacts on covered species are described in the HCP for each species as conservation measures and conditions on covered activities, guided by goals and objectives in the conservation strategy of the HCP. DSL will monitor implementation of these measures for compliance and effectiveness.

The Service published a notice of intent in the Federal Register to develop an EIS for this project on May 5, 2022 (87 FR 26778). The Service published a notice of availability (NOA) for the draft EIS on November 18, 2022 (87 FR 69291), followed by an extension of the comment period (December 20, 2022, 87 FR 77877). Next, the Service published an NOA for the final EIS on January 10, 2025 (90 FR 2013). The EIS analyzed the environmental consequences of the proposed action (also described as the preferred alternative), a no action alternative, and two alternatives to the proposed action. All alternatives analyzed in detail include forest management activities (i.e., timber harvest and reforestation, thinning, and supporting management activities and infrastructure); however, the implementation of these activities would vary by alternative, as described in the final EIS.

The Service prepared the draft EIS and final EIS pursuant to the Council on Environmental Quality's (CEQ's) implementing NEPA regulations at 40 CFR 1500-1508, effective as of May 20, 2022 (87 FR 23453; April 20, 2022). On February 25, 2025, in response to President Trump's Executive Order (E.O.) 14154, CEQ issued an interim final rule removing all its NEPA regulations (90 FR 10610, effective April 11, 2025). The Service prepared this ROD considering this change and related E.O.s, including E.O. 14154, “Unleashing American Energy,” as discussed in the ROD.

Rationale for Decision

We have made the determination that DSL's application, including the HCP, meet the statutory permit issuance criteria set forth in section 10(a)(2)(B) (16 U.S.C. 1539(a)(2)(B)). Our assessment of the application was conducted in accordance with the requirements of section 10(a)(1)(B) of the ESA and its implementing regulations. Based on our review of the alternatives and their environmental consequences as described in the final EIS, we selected the proposed action because issuance of the ITP and implementation of the HCP best fulfill the Service's statutory mission and responsibilities while meeting our purpose and need. This decision is described further in the ROD.

Authority

We provide this notice pursuant to NEPA (42 U.S.C. 4321 et seq.) and Department of the Interior guidance (318 DM 3).

Bridget Fahey,
Acting Regional Director, Pacific Region.

[FR Doc. 2025-09636 Filed 5-28-25; 8:45 am]

BILLING CODE 4333-15-P